DEPARTMENT OF HEALTH AND HUMAN SERVICES

Administration for Children and Families

Proposed Information Collection Activity; Comment Request; Proposed Projects: Renewal of the Low Income Home Energy Assistance Program (LIHEAP) Performance Data Form (LPDF)

Title: LIHEAP Performance Data Form for Federal Fiscal Year (FFY) XXXX.

OMB No.: 0970-0449.

Description: In response to the 2010 Government Accountability Office (GAO) report, Low Income Home Energy Assistance Program—Greater Fraud Prevention Controls are Needed (GAO-10-621), and in consideration of the recommendations issued by the Low Income Home Energy Assistance Program (LIHEAP) Performance Measures Implementation Work Group, the Office of Community Services (OCS) required the collection and reporting of the new performance measures by state LIHEAP grantees and the District of Columbia. Office of Management and Budget (OMB) approved the LIHEAP Performance Data Form (LPDF) in November 2014 (OMB Clearance No. 0970-0449) that expires on October 31, 2017. The LPDF provides for the collection of the following LIHEAP performance measures which are considered to be developmental as part of the LPDF:

1. The benefit targeting index for high burden households receiving LIHEAP fuel assistance;

2. The burden reduction targeting index for high burden households receiving LIHEAP fuel assistance;

3. The number of households where LIHEAP prevented a potential home energy crisis; and

4. The number of households where LIHEAP benefits restored home energy.

All State LIHEAP grantees and the District of Columbia are required to complete the LPDF data through the Administration for Children and Families' (ACF) web-based data collection and reporting system, the Online Data Collection (OLDC), which is available at: https://home.grantsolutions.gov/home. The reporting requirements will be described through OLDC.

The previous OMB-approved LIHEAP Grantee Survey on sources and uses of LIHEAP funds was added in 2014 to the LPDF as an addition to the LIHEAP performance data. No substantive changes are being proposed for this data collection activity. A sample of the draft form is available for viewing here: https://www.acf.hhs.gov/ocs/resource/funding-applications.

The form is divided into the following three modules to add clarity:

Module 1. LIHEAP Grantee Survey (Required Reporting)

Module 1 of the LPDF will continue to require the following data from each state for the federal fiscal year:

• Grantee information,

• sources and uses of LIHEAP funds,

• average LIHEAP household benefits, and

• maximum income cutoffs for 4-person households for each type of LIHEAP assistance provided by each grantee for the fiscal year.

Module 2. LIHEAP Performance Measures (Required Reporting)

Module 2 of the LPDF will continue to require the following data from each state for the federal fiscal year:

• Grantee information,

• energy burden targeting,

• restoration of home energy service, and

• prevention of loss of home energy.

Module 3. LIHEAP Performance Measures (Optional Reporting)

Module 3 of the LIHEAP LPDF will continue to voluntarily collect the following additional information from each interested grantee for the federal fiscal year:

• Average annual energy usage,

• Unduplicated number of households using supplemental heating fuel and air conditioning,

• Unduplicated number of households that had restoration of home energy service, and

• Unduplicated number of households that had prevention of loss of home energy.

Based on the data collected in the LPDF:

• ACF will provide reliable and complete LIHEAP fiscal and household data to Congress in the Department's annual LIHEAP Report to Congress.

• ACF will calculate LHEAP performance measures and report the results through the annual budget development process and in LIHEAP's annual Congressional Justification (CJ) under the Government Performance and Results Act of 1993.

• ACF and grantees will be informed about the impact LIHEAP has with respect to LIHEAP households' home energy burden (the proportion of their income spent towards their home heating and cooling bills), including information on the difference between the average recipient and high burden recipients, restoring home energy service, and preventing loss of home energy service.

• ACF will be able to respond to questions on sources and uses of LIHEAP funds from the Congress, Department, OMB, White House, and other interested parties in a timely manner.

• LIHEAP grantees will be able to compare their own results to the results for other states, as well as to regional and national results, through the Data Warehouse of the LIHEAP Performance Management Web site as they manage their programs.

Respondents: State Governments and the District of Columbia.

Annual Burden Estimates

The table below shows the estimated data collection and reporting burden for the LPDF as reported in 2014. These estimates are based on a small number of interviews conducted in 2014 with grantees, sub-grantees, and energy vendors. In support of this submission requesting comments, ACF is currently re-assessing the level of effort to collect and report the required data in order to develop updated burden estimates. The original 2014 estimates were based on grantee reporting capabilities at that time and included time and costs for initial system development. However, since most grantees have improved their reporting capabilities, many grantees have completed their system development, and ACF has furnished reporting resources and technical assistance to assist grantees, it is expected that the time and costs associated with reporting are lower than the original 2014 estimates show below.

Instrument | Number of respondents | Number of responses per respondent | Average burden hours per response | Total burden hours
Module 1: Grantee Survey
Grantees | 51 | 1 | 3.5 | 178.50
Module 2: Performance Measures
Grantees | 51 | 1 | 100 | 5,100
Sub-Grantees (in states with sub-grantee managed systems) | 200 (estimate) | 1 | 80 hours | 16,000
Large Energy Vendors (largest 5 electric, 5 gas, 10 fuel oil, and 10 propane vendors per state—average) | 1,530 (estimate) | 1 | 40 hours | 61,200
Small Energy Vendors (excluded except in special circumstances) | 200 | 1 | 10 | 2,000
Total Annual Burden Hours | 2,032 | 1 | Varies | 84,478

Estimated Total Annual Burden Hours: 168,956.50.

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW., Washington, DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
Reports Clearance Officer.

[FR Doc. 2017-21774 Filed 10-10-17; 8:45 am]

BILLING CODE 4184-80-P